ENVIRONMENTAL PROTECTION AGENCY

40 CFR Part 58

[AD-FRL-7388-3]

RIN 2060-AK05

National Ambient Air Quality Standard: Particulate Matter

AGENCY: Environmental Protection Agency (EPA).

ACTION: Proposed rule.

SUMMARY: EPA is taking direct final action to revise the national ambient air quality standards for particulate matter. This requirement describes the number of collocated sites required within a reporting organization.

In the “Rules and Regulations” section of today's Federal Register, we are approving revisions to “Quality Assurance Requirements for State and Local Air Monitoring Stations” (SLAMS) as a direct final rule without prior proposal because we view this as a noncontroversial revision and anticipate no adverse comment. We have explained our reasons for this approval in the preamble to the direct final rule. If we receive adverse comment, we will withdraw the direct final rule and it will not take effect. We will address all public comments in a subsequent final rule based on this proposed rule. We will not institute a second comment period on this action. Any parties interested in commenting must do so at this time.

DATES: Comments must be submitted on or before March 3, 2003.

ADDRESSES: Written comments should be submitted (in duplicate if possible) to: Air and Radiation Docket and Information Center (6102), Attention: Docket No. A96-51, 1200 Pennsylvania Avenue, NW., Washington, DC 20460. In person or by courier, deliver comments (in duplicate if possible) to: Air and Radiation Docket and Information Center (6102), Attention Docket A96-51, U.S. EPA, 401 M Street, SW., Washington, DC 20460. We request that you send a separate copy of your comments to Mr. Michael Papp, Monitoring and Quality Assurance Group (C339-02), Emissions, Monitoring, and Analysis Division, U.S. Environmental Protection Agency, Research Triangle Park, North Carolina 27711.

FOR FURTHER INFORMATION CONTACT: For information concerning the proposed rule, contact Mr. Michael Papp, Monitoring and Quality Assurance Group (C339-02), Emissions, Monitoring, and Analysis Division, U.S. Environmental Protection Agency, Research Triangle Park, North Carolina 27711, telephone number (919) 541-2408.

SUPPLEMENTARY INFORMATION: This document concerns revising the national ambient air quality standards for particulate matter, 40 CFR part 58, appendix A, section 3.5.2. For further information, please see the information provided in the direct final action that is located in the “Rules and Regulations” section of this Federal Register publication.

Dated: December 18, 2002.
Christine Todd Whitman,
Administrator.

[FR Doc. 02-32385 Filed 12-30-02; 8:45 am]

BILLING CODE 6560-50-P